DEPARTMENT OF COMMERCE

Patent and Trademark Office

37 CFR Part 2

[Docket No.: 2003-P-011]

Correspondence With the United States Patent and Trademark Office

AGENCY: United States Patent and Trademark Office, Commerce.

ACTION: Final rule; correction.

SUMMARY: The United States Patent and Trademark Office (Office) published in the Federal Register of March 25, 2003 (68 FR 14332) a final rule revising the rules of practice to change the mailing address for certain correspondence with the Office, and to change the titles of certain Office officials. This document corrects an error in the zip code set forth in the address for mailing trademark-related correspondence.

EFFECTIVE DATE: Effective on May 1, 2003.

FOR FURTHER INFORMATION CONTACT: Mary Hannon, Office of the Commissioner for Trademarks, by telephone at (703) 308-8910, ext. 137; by e-mail to mary.hannon@uspto.gov; by facsimile transmission addressed to her at (703) 872-9280; or by mail marked to her attention and addressed to Commissioner for Trademarks, 2900 Crystal Drive, Arlington, Virginia 22202-3514.

SUPPLEMENTARY INFORMATION: The Office published in the Federal Register of March 25, 2003 (68 FR 14332) a final rule that changed the mailing address for certain correspondence with the Office. This document amends § 1.1(a)(2) to correct the zip code in the address for mailing trademark-related documents (other than documents sent to the Assignment Services Division for recordation and requests for copies of trademark documents). Specifically, 37 CFR 1.1(a)(2) is amended to refer to “22202-3514” rather than “22202-3513.”

In FR Doc. 03-6971, published on March 25, 2003 (68 FR 14332), make the following correction.

PART 37—[Corrected]

§ 1.1 [Corrected].

1. On page 14335, in the third column, in § 1.1(a)(2), line 10, correct “22202-3513” to read “22202-3514.”

Dated: April 15, 2003.
Lynne G. Beresford,
Deputy Commissioner for Trademark Examination Policy.

[FR Doc. 03-9696 Filed 4-18-03; 8:45 am]

BILLING CODE 3510-16-P